DEPARTMENT OF COMMERCE

National Oceanic and Atmospheric Administration

[RTID 0648-XA049]

Endangered and Threatened Species; Initiation of 5-Year Reviews for Eulachon, Yelloweye Rockfish, Bocaccio, and Green Sturgeon

AGENCY: National Marine Fisheries Service (NMFS), National Oceanic and Atmospheric Administration (NOAA), Commerce.

ACTION: Notice of initiation of 5-year reviews; request for information.

SUMMARY: We, NMFS, are announcing 5-year reviews of four species listed under the Endangered Species Act (ESA) of 1973, as amended. The four distinct population segments (DPSs) included in this notice are the southern DPS of eulachon (Thaleichthys pacificus), the Puget Sound/Georgia Basin DPSs of yelloweye rockfish (Sebastes ruberrimus) and bocaccio (S. paucispinis), and the southern DPS of green sturgeon (Acipenser medirostris). The purpose of these reviews is to ensure the accuracy of the listing classifications of these threatened and endangered species. The 5-year reviews will be based on the best scientific and commercial data available at the time of the reviews; therefore, we are requesting that interested parties submit any new relevant information on these DPSs that has become available since the original listing determinations or since the species' status was last updated. Based on the results of these 5-year reviews, we will make the requisite determinations under the ESA.

DATES: To allow us adequate time to conduct these reviews, we must receive your information no later than June 3, 2020.

ADDRESSES: You may submit information document, identified by NOAA-NMFS-2020-0022, by any of the following methods:

• Electronic Submissions: Submit all electronic public comments via the Federal e-Rulemaking Portal www.regulations.gov. To submit comments via the e-Rulemaking Portal, first click the “submit a comment” icon, then enter NOAA-NMFS-2020-0022 in the keyword search. Locate in the resulting list the document you wish to comment on and click on the “Submit a Comment” icon to the right of that line.

• Mail or Hand-Delivery: Address comments to Robert Markle, NMFS, West Coast Region, 1201 NE Lloyd Blvd., Suite 1100, Portland, OR 97232.

Instructions: Comments must be submitted by one of the above methods to ensure that we can receive, document, and consider them. Comments sent by any other method, sent to any other address or individual, or received after the end of the comment period may not be considered. All comments received are a part of the public record and will generally be posted for public viewing on www.regulations.gov without change. All personal identifying information (e.g., name, address, etc.) submitted voluntarily by the sender will be publicly accessible. Do not submit confidential business information, or otherwise sensitive or protected information. We request that all information be accompanied by: (1) Supporting documentation such as maps, bibliographic references, or reprints of pertinent publications; and (2) the submitter's name, address, and any association, institution, or business that the person represents. We will accept anonymous comments (enter “N/A” in the required fields if you wish to remain anonymous). Please note that submissions without supporting information—those merely stating support for or opposition to the action under consideration—will be noted but not used in making any listing determinations because such comments do not represent actual scientific or commercial data.

FOR FURTHER INFORMATION CONTACT: Rob Markle at the above address, by phone at (503) 230-5419, or by email at robert.markle@noaa.gov.

SUPPLEMENTARY INFORMATION: Section 4(c)(2)(A) of the ESA requires that we conduct a review of listed species at least once every five years. On the basis of such reviews, we determine under section 4(c)(2)(B) whether a species should be delisted or reclassified from endangered to threatened or from threatened to endangered.

We will undertake reviews for the southern DPS of eulachon, the Puget Sound/Georgia Basin DPSs of yelloweye rockfish and bocaccio, and the southern DPS of green sturgeon. Information about these four DPSs can be found at our West Coast regional website: https://www.fisheries.noaa.gov/region/west-coast.

Our regulations for periodic reviews at 50 CFR 424.21 require that we publish a notice in the Federal Register announcing those species currently under active review. This notice announces our active reviews of the DPSs listed above. Any change in listing classification would require a separate rulemaking process.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after taking into account those efforts, if any, being made by any State or foreign nation, to protect such species.

Application of the DPS Policy

NMFS is responsible for determining whether species, subspecies, or DPSs of marine and anadromous species are threatened or endangered under the ESA. For these four species, NMFS applies the joint US Fish and Wildlife Service-NMFS DPS policy (61 FR 4722, February 7, 1996) in identifying the appropriate taxonomic unit for listing consideration. Under this policy, a DPS must be discrete from other conspecific populations, and it must be significant to its taxon. A group of organisms is discrete if it is “markedly separated from other populations of the same taxon as a consequence of physical, physiological, ecological, and behavioral factors.” Under the DPS Policy, if a population group is determined to be discrete, the agency must then consider whether it is significant to the taxon to which it belongs. Considerations in evaluating the significance of a discrete population include: (1) Persistence of the discrete population in an unusual or unique ecological setting for the taxon; (2) evidence that the loss of the discrete population segment would cause a significant gap in the taxon's range; (3) evidence that the discrete population segment represents the only surviving natural occurrence of a taxon that may be more abundant elsewhere outside its historical geographic range; or (4) evidence that the discrete population has marked genetic differences from other populations of the species.

Public Solicitation of New Information

The 5-year reviews will consider the best scientific and commercial data available and new information that has become available since the species' previous status review. Our Northwest and Southwest Fisheries Science Centers will assist the West Coast Region in gathering and analyzing this information. To ensure that the 5-year reviews are complete and based on the best available information, we are soliciting new information from the public, concerned governmental agencies, Native American tribes, the scientific community, industry, environmental entities, and any other interested parties regarding the status of the southern DPS of eulachon, the Puget Sound/Georgia Basin DPSs of yelloweye rockfish and bocaccio, and the southern DPS of green sturgeon.

Specifically, we are seeking new information (generated since 2015) on: (1) Population abundance; (2) population productivity; (3) changes in species distribution or population spatial structure; (4) genetics or other measures of diversity; (5) changes in habitat conditions; (6) conservation measures that have been implemented to benefit the species—including monitoring data demonstrating the effectiveness of such measures in addressing identified limiting factors or threats; (7) the status and trends of identified limiting factors or threats; and (8) other new information, data, or corrections including, but not limited to, taxonomic or nomenclatural changes, identification of erroneous information in the previous listing determination, and improved analytical methods.

With respect to the southern DPS of eulachon, we request any new information concerning (1) the species' spatial distribution and abundance in freshwater and marine environments, (2) the species' genetics, (3) the effects of climate variability and how anthropogenic-forced climate drivers affect eulachon and their freshwater and marine habitats, (4) the effects of ocean acidification on eulachon, (5) eulachon bycatch in the ocean shrimp fisheries, (6) predation on eulachon, and (7) the effects of dams and channel-spanning water control structures on estuary-plume environments.

With respect to Puget Sound/Georgia Basin DPSs of yelloweye and bocaccio, we request any new information concerning (1) the species' spatial distribution and habitat associations among larval, young-of-the-year, and adult fish in nearshore and deep-water environments; (2) the effectiveness of regulations in protecting and restoring rockfish habitats; (3) the species' genetics; (4) the effects of contaminants on species productivity, growth, and survival; (5) the effects of climate change and ocean acidification; on these rockfish species; (6) catch or bycatch of these species in specific fisheries, including information on the ability of anglers to properly identify rockfish by species; (7) the effectiveness of fisheries management with respect to reducing impacts on these rockfish species; (8) efforts to remove and prevent derelict fishing gear; (9) enumeration of bycatch by derelict fishing gear; and (10) the use and effectiveness of devices designed to reduce the effects of barotrauma in rockfish bycatch.

With respect to the southern DPS of green sturgeon, we request any new information concerning (1) the species' biology—including, but not limited to, population trends, distribution, abundance, demographics, and genetics; (2) habitat conditions—including, but not limited to, amount, distribution, and suitability; (3) conservation measures that have been implemented to benefit the species; (4) status and trends of threats; (5) other new information, data, or improved analytical methods; and (6) corrections—including but not limited to, taxonomic or nomenclatural changes.

If you wish to provide information for these 5-year reviews, you may submit your information and materials to Rob Markle (see ADDRESSES).

Authority: 16 U.S.C. 1531 et seq.

Dated: February 28, 2020.
Angela Somma,
Chief, Endangered Species Division, Office of Protected Resources, National Marine Fisheries Service.

[FR Doc. 2020-04479 Filed 3-4-20; 8:45 am]

BILLING CODE 3510-22-P